DEPARTMENT OF HOMELAND SECURITY

Federal Emergency Management Agency

44 CFR Part 67

[Docket No. FEMA-D-7622]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
NORTH CAROLINA
Dare County
Atlantic Ocean | Approximately 1,500 feet south of the intersection of Lighthouse Road and Cape Point Campground Road | •6 | •5 | Dare County (Unincorporated Areas), and Towns of Duck, Kill Devil Hills, Kitty Hawk, Manteo, Nags Head, and Southern Shores.
| Approximately 1,600 feet northeast of the intersection of State Route 12 and Baum Trail | •17 | •15
Roanoke Sound | At the intersection of Cedar Drive and Captains Lane | •8 | •9 | Dare County (Unincorporated Areas), Towns of Kill Devil Hills, and Nags Head.
| Approximately 500 feet east of the intersection of Sailfish Drive and Sailfish Court | •9 | •12
Pamlico Sound | Along Oregon Inlet Channel, west of State Route 12 | •8 | •9 | Dare County (Unincorporated Areas).
| Approximately 1,750 feet north of the intersection of Mail Landing Lane State Route 12 | •7 | •12
Croatan Sound | Southeast corner of U.S. Route 264 and Old Ferry Dock Road | •6 | •5 | Dare County (Unincorporated Areas).
| Approximately 0.7 mile northeast of the intersections of Hassell Road and Shipyard Road | •7 | •8
Currituck Sound | Approximately 500 feet west of the intersection of North Dune Loop and Sound View Trail | •6 | •7 | Dare County (Unincorporated Areas), Towns of Duck and Southern Shores.
| Approximately 0.9 mile west of the intersection of Baum Trail and State Route 12 | •6 | •9
Dare County (Unincorporated Areas)
Maps available for inspection at the Dare County Justice Center, Tax Mapping Department, 211 Budleigh Street, Manteo, North Carolina.
Send comments to Mr. Terry Wheeler, Dare County Manager, P.O. Box 1000, Manteo, North Carolina 27954.
Town of Duck
Maps available for inspection at the Town of Duck Planning and Zoning Department, 1240 Duck Road, Duck, North Carolina.
Send comments to Mr. Chris Layton, Duck Town Manager, P.O. Box 8369, Duck, North Carolina 27949.
Town of Kill Devil Hills
Maps available for inspection at the Town of Kill Devil Hills Planning and Building Directors Office, 102 Town Hall Drive, Kill Devil Hills, North Carolina.
Send comments to The Honorable Sherry Rollinson, Mayor of the Town of Kill Devil Hills, P.O. Box 1719, Kill Devil Hills, North Carolina 27948.
Town of Kitty Hawk
Maps available for inspection at the Kitty Hawk Town Hall, 101 Veterans Memorial Drive, Kitty Hawk, North Carolina.
Send comments to Mr. Gary McGee, Kitty Hawk Town Manager, P.O. Box 549, Kitty Hawk, North Carolina 27949.
Town of Manteo
Maps available for inspection at the Manteo Town Hall, 407 Budleigh Street, Manteo, North Carolina.
Send comments to Mr. Kermit Skinner, Jr., Manteo Town Manager, P.O. Box 246, Manteo, North Carolina 27954.
Town of Nags Head
Maps available for inspection at the Town of Nags Head Planning Department, 5401 South Croatan Highway, Nags Head, North Carolina.
Send comments to Mr. J. Webb Fuller, Nags Head Town Manager, P.O. Box 99, Nags Head, North Carolina 27959.
Town of Southern Shores
Maps available for inspection at the Town of Southern Shores Building Inspections Department, 6 Skyline Road, Southern Shores, North Carolina.
Send comments to Mr. Carl Classen, Southern Shores Town Manager, 6 Skyline Road, Southern Shores, North Carolina 27949.
NORTH CAROLINA
Durham County
New Hope River | At downstream county boundary | None | •238 | Durham County (Unincorporated Areas).
| At the confluence of Little Creek and New Hope Creek | None | •238
Little Creek | At the confluence with New Hope River | None | •238 | Durham County (Unincorporated Areas), City of Durham.
| At upstream county boundary | None | •246
New Hope Creek | At the confluence with New Hope River | None | •238 | Durham County (Unincorporated Areas), City of Durham.
| Approximately 0.3 mile downstream of Old Chapel Hill Road | None | •247
Crooked Creek (Cape Fear) | At the downstream Chatham/Durham County boundary | None | •239 | Durham County (Unincorporated Areas), City of Durham.
| Approximately 750 feet upstream of Ebon Road | None | •350
Northeast Creek | Approximately 1,300 feet east from the intersection of railroad along the Durham/Chatham County boundary | None | •239 | Durham County (Unincorporated Areas), City of Durham.
| Approximately 125 feet upstream of So-hi Drive | None | •304
Northeast Creek Tributary 2 | At the confluence with Northeast Creek | •287 | •286 | Durham County (Unincorporated Areas).
| Approximately 300 feet downstream of Moore Drive | None | •312
Third Fork Creek | Approximately 800 feet downstream of Highway 751 | •241 | •238 | City of Durham.
| Approximately 800 feet upstream of East Forest Hill Plaza | •308 | •312
Gum Creek | At the confluence with new Hope Creek | None | •238 | Durham County (Unincorporated Areas), City of Durham.
| Approximately 900 feet downstream of Abron Drive | None | •254
Burdens Creek | At the confluence with Northeast Creek | •251 | •249 | Durham County (Unincorporated Areas), City of Durham.
| Approximately 0.6 mile upstream of East Cornwallis Road | None | •336
Northeast Creek North Prong | At the confluence with Northeast Creek | •270 | •267 | City of Durham.
| Approximately 0.2 mile upstream of NC Highway 55 | •330 | •332
Burdens Creek Tributary 4 | At the confluence with Burdens Creek | None | •278 | Durham County (Unincorporated Areas), City of Durham.
| Approximately 850 feet upstream of East Cornwallis Road | None | •346
Rocky Creek | At the confluence with Third Fork Creek | •283 | •286 | City of Durham.
| At downstream side of South Briggs | •329 | •326
Morgan Creek | Approximately 1,000 feet downstream of Old Farrington Point Road | None | •238 | Durham County (Unincorporated Areas), City of Durham.
| At the Durham/Orange County boundary | None | •250
Stirrup Iron Creek Tributary C-2 | At the confluence with Stirrup Iron Creek Tributary C | None | •368 | Durham County (Unincorporated Areas).
| Approximately 750 feet upstream of the confluence with Stirrup Iron Creek Tributary C | None | •375
Buffalo Creek Tributary 1 | At the confluence with Buffalo Creek (into North Fork Little River) | None | •494 | Durham County (Unincorporated Areas).
| Approximately 0.3 mile upstream of the confluence with Buffalo Creek (into North Fork Little River) | None | •538
Buffalo Creek Tributary 2 | At the confluence with Buffalo Creek (into North Fork Little River) | None | •524 | Durham County (Unincorporated Areas).
| At the Durham/Orange County | None | •528
Camp Creek Tributary 4 | At the confluence with Camp Creek | None | •494 | Durham County (Unincorporated Areas).
| At the Durham/Person County boundary | None | •504
Crooked Creek Tributary 1 | At the confluence with Crooked Creek | None | •256 | Durham County (Unincorporated Areas).
| Approximately 0.5 mile upstream of the confluence with Crooked Creek | None | •282
Crooked Creek (into Eno River) Tributary 1 | At the confluence with Crooked Creek | •395 | •393 | Durham County (Unincorporated Areas), City of Durham.
| Approximately 375 feet upstream of Milton Road | None | •482
Crooked Creek Tributary 1A | At the confluence with Crooked Creek Tributary 1 | None | •428 | Durham County (Unincorporated Areas).
| Approximately 0.4 mile upstream of the confluence with Crooked Creek | None | •466
Ellerbe Creek Tributary 4 | At the confluence with Ellerbe Creek | None | •263 | Durham County (Unincorporated Areas).
| Approximately 1.2 miles upstream of the confluence with Ellerbe Creek | None | •329
Eno River Tributary 7 | At the confluence with Eno River Tributary | None | •280 | Durham County (Unincorporated Areas).
| Approximately 0.3 mile upstream of the confluence with Eno River | None | •297
Eno River Tributary 8 | At the confluence with Eno River Tributary | None | •285 | Durham County (Unincorporated Areas).
| Approximately 700 feet upstream of railroad | None | •305
Eno River Tributary 9 | At the confluence with Eno River | •328 | •327 | Durham County (Unincorporated Areas), City of Durham.
| Approximately 375 feet upstream of Umstead Road | None | •434
Flat River Tributary 6 | At the confluence with Flat River | None | •347 | Durham County (Unincorporated Areas).
| Approximately 500 feet upstream of Patrick Road | None | •499
Flat River Tributary 7 | At the confluence with Flat River | None | •392 | Durham County (Unincorporated Areas).
| Approximately 950 feet upstream of State Forest Road | None | •521
Flat River Tributary 8 | At the confluence with Flat River | None | •410 | Durham County (Unincorporated Areas).
| Approximately 0.9 mile upstream of the confluence with Flat River | None | •452
Knap of Reeds Creek Tributary 2 | At the confluence with Knap of Reeds Creek Tributary | None | •343 | Town of Butner.
| Approximately 0.6 mile upstream of the confluence with Knap of Reeds Creek Tributary | None | •399
Little Brier Creek Tributary 1 | At the confluence with Little Brier Creek (Basin 18, Stream 15) | None | •355 | Durham County (Unincorporated Areas).
| Approximately 0.6 mile upstream of confluence with Little Brier Creek (Basin 18 Stream 15) | None | •384
Little Brier Creek Tributary 2 | At the confluence with Little Brier Creek (Basin 18, Stream 15) | None | •372 | Durham County (Unincorporated Areas).
| Approximately 1,514 feet upstream of the confluence with Little Brier Creek (Basin 18, Stream 15) | None | •402
Little Lick Creek Tributary 3A | At the confluence with Little Lick Creek Tributary 3 | None | •286 | Durham County (Unincorporated Areas).
| Approximately 250 feet upstream of Rocky Creek Road | None | •306
Little River Tributary | At the confluence with Little River Tributary 4 | None | •432 | Durham County (Unincorporated Areas).
| Approximately 425 feet upstream of Milton Road | None | •481
Little River Tributary 5 | At the confluence with Little River Tributary 1 | None | •485 | Durham County (Unincorporated Areas).
| Approximately 0.2 mile upstream of Redpine Road | None | •536
Little River Tributary 6 | At the confluence with Little River Tributary 1 | None | •487 | Durham County (Unincorporated Areas).
| Approximately 0.7 mile upstream of Dunnegan Road | None | •543
Little River Tributary 7 | At the confluence with Little River Tributary 2 | None | •385 | Durham County (Unincorporated Areas).
| Approximately 0.5 mile upstream of the confluence with Little River Tributary 2 | None | •424
Mountain Creek Tributary 1 | At the confluence with Mountain Creek | None | •409 | Durham County (Unincorporated Areas).
| Approximately 0.7 mile upstream of the confluence with Mountain Creek | None
Mountain Creek Tributary 2 | At the confluence with Mountain Creek | None | •440 | Durham County (Unincorporated Areas).
| Approximately 0.5 mile upstream of the confluence with Mountain Creek | None | •499
Mountain Creek Tributary 2A | At the confluence with Mountain Creek Tributary 2 | None | •450 | Durham County (Unincorporated Areas).
| Approximately 0.3 mile upstream of the confluence with Mountain Creek Tributary 2 | None | •488
Mountain Creek Tributary 3 | At the confluence with Mountain Creek | None | •444 | Durham County (Unincorporated Areas).
| Approximately 0.5 mile upstream of the confluence with Mountain Creek | None | •517
Mountain Creek Tributary 4 | At the confluence with Mountain Creek | None | •457 | Durham County (Unincorporated Areas).
| Approximately 0.8 mile upstream of the confluence with Mountain Creek | None | •509
Mountain Creek Tributary 4A | At the confluence with Mountain Creek Tributary 4 | None | •466 | Durham County (Unincorporated Areas).
| Approximately 0.6 mile upstream of the confluence with Mountain Creek Tributary 4 | None | •505
Mountain Creek Tributary 5 | At the confluence with Mountain Creek | None | •457 | Durham County (Unincorporated Areas).
| Approximately 500 feet upstream of Hopkins Road | None | •513
North Fork Little River Tributary 2 | At the confluence with North Fork Little River | None | •474 | Durham County (Unincorporated Areas).
| Approximately 0.5 mile upstream of the confluence with North Fork Little River at the Durham/Orange County boundary | None | •505
Panther Creek Tributary 1 | At the confluence with Panther Creek | None | •316 | Durham County (Unincorporated Areas).
| Approximately 0.6 mile upstream of the confluence with Panther Creek | None | •368
Panther Creek Tributary 2 | At the confluence with Panther Creek Tributary 1 | None | •316 | Durham County (Unincorporated Areas).
| Approximately 0.4 mile upstream of the confluence with Panther Creek Tributary 1 | None | •361
Rocky Creek Tributary 1 | At the confluence with Rock Creek | None | •402 | Durham County (Unincorporated Areas), Town of Butner.
| Approximately 500 feet upstream of Range Road | None | •454 |
Rocky Creek Tributary 2 | At the confluence with Rocky Creek | None | •408 | Town of Butner.
| Approximately 0.3 mile upstream of the confluence with Rocky Creek | None | •445 |
Rocky Branch Tributary 1 | At the confluence with Rocky Branch | None | •298 | Durham County (Unincorporated Areas).
| Approximately 0.3 mile upstream of the confluence with Rocky Branch | None | •322 |
Sevenmile Creek Tributary 1 | At the confluence with Sevenmile Creek | •461 | •462 | Durham County (Unincorporated Areas).
| Approximately 1.5 miles upstream of the confluence with Sevenmile Creek | None | •596 |
Stirrup Iron Creek Tributary A-1 | At the confluence with Stirrup Iron Creek Tributary A | None | •356 | City of Durham.
| Approximately 175 feet upstream of Cherry Blossom Drive | None | •393 |
Stirrup Iron Creek Tributary B-1 | At the confluence with Stirrup Iron Creek Tributary B | None | •359 | Durham County (Unincorporated Areas).
| Approximately 0.4 miles upstream of the confluence with Stirrup Iron Creek Tributary B | None | •381 |
Stirrup Iron Creek Tributary C-1 | At the confluence with Stirrup Iron Creek Tributary C | None | •356 | Durham County (Unincorporated Areas), City of Durham.
| Approximately 0.3 mile upstream of the confluence with Stirrup Iron Creek Tributary C | None | •376 |
Flat River Tributary 4 | Approximately 1,500 feet upstream of Quail Roost Road | None | •481 | Durham County (Unincorporated Areas).
| Approximately 0.7 mile upstream of Quail Roost Road | None | •513 |
Stirrup Iron Creek Tributary C | Approximately 0.6 mile upstream of Evans Road | None | •375 | Durham County (Unincorporated Areas), City of Durham.
| Approximately 0.5 mile upstream of Roche Drive | None | •377 |
Town of Butner
Maps available for inspection at the Butner Town Hall, 205C West E Street, North Carolina.
Send comments to Mr. Tom McGee, Butner Town Manager, 205 C West E Street, Butner, North Carolina 27509.
City of Durham
Maps available for inspection at the City of Durham Public Works Department, Stormwater Services Division, 101 City Hall Plaza, Durham, North Carolina.
Send comments to The Honorable William Bell, Mayor of the City of Durham, 101 City Hall Plaza, Durham, North Carolina 27701.
Durham County (Unincorporated Areas)
Maps available for inspection at the City of Durham Public Works Department, Stormwater Services Division, 101 City of Hall Plaza, Durham, North Carolina.
Send comments to Mr. Michael Ruffin, Durham County Manager, 200 East Main Street, 2nd Floor, Old Courthouse, Durham, North Carolina 27701.
NORTH CAROLINA
New Hanover County
Burnt Mill Creek | Approximately 500 feet upstream of railroad | •8 | •8 | City of Wilmington.
| Approximately 1,425 feet upstream of Varsity Drive | None | •37 |
Mott Creek | Just upstream of South College Road | None | •22 | New Hanover County (Unincorporated Areas).
| Approximately 0.2 mile upstream of Long Eagle Court | None | •27 |
Mott Creek Tributary 1 | At the confluence with Mott Creek | •11 | •13 | New Hanover County (Unincorporated Areas).
| Approximately 300 feet downstream of Carolina Beach Road | •11 | •15 |
Smith Creek | Approximately 1,225 feet downstream of the confluence of Kings Grant Tributary | •8 | •9 | New Hanover County (Unincorporated Areas).
| Approximately 300 feet upstream of Dove Field Road | None | •38 |
Spring Branch | Approximately 0.3 mile upstream of North Kerr Avenue | •9 | •8 | New Hanover County (Unincorporated Areas), City of Wilmington.
| Approximately 0.4 mile upstream of Martin Luther King Jr. Parkway | None | •31 |
Bradley Creek Tributary 1 | Approximately 60 feet upstream of Eastwood Road | None | •18 | City of Wilmington.
| Approximately 0.2 mile upstream of Eastwood Road | None | •18 |
Island Creek | Just downstream of Sidbury Road | None | •19 | New Hanover County (Unincorporated Areas).
| Approximately 1.2 miles upstream of Sidbury Road | None | •24 |
Prince George Creek Tributary 3 | Approximately 500 feet upstream of the confluence with Prince George Creek | •20 | •21 | New Hanover County (Unincorporated Areas).
| Approximately 0.6 mile upstream of Sidbury Road | None | •34 |
Murrayville Tributary | Approximately 0.2 mile upstream of Murrayville Road | None | •26 | New Hanover County (Unincorporated Areas).
| Approximately 1.0 mile upstream of North College Road | None | •36 |
Ness Creek | Approximately 2.0 miles upstream of the confluence with Northeast Cape Fear River | •9 | •8 | New Hanover County (Unincorporated Areas).
| Approximately 1,900 feet upstream of Todd Avenue | None | •32 |
Ness Creek Tributary 2 | At the confluence with Ness Creek | •17 | •26 | New Hanover County (Unincorporated Areas).
| Just upstream of the Caladan Road | •17 | •31 |
Prince George Creek | Just upstream of Castle Hayne Road | •11 | •10 | New Hanover County (Unincorporated Areas).
| Just downstream of Sidbury Road | •27 | •28 |
Pumkin Creek | Approximately 500 feet upstream of the confluence with Prince George Creek | •15 | •14 | New Hanover County (Unincorporated Areas).
| Approximately 500 feet upstream of Juvenile Center Road | None | •31 |
Wildcat | Approximately 0.5 mile upstream of the confluence with Northeast Cape Fear River Tributary 2 | •8 | •9 | New Hanover County (Unincorporated Areas).
| Just upstream of Blue Clay Road | None | •27 |
Atlantic Ocean/Intracoastal Waterway | Approximately 750 feet northeast of the intersection of U.S Route 421 North Lake Park Boulevard and Spencer Farlow Drive | •9 | •10 | New Hanover County (Unincorporated Areas), Town of Carolina Beach, Town of Kure Beach, City of Wilmington, Town of Wrightsville Beach.
| Approximately 1,000 feet south of the intersection of Jack Parker Boulevard and South Lumina Avenue | •16 | •19 |
Cape Fear River | Approximately 0.6 mile upstream of the New Hanover/Pender/Brunswick County boundary | •7 | •8 | New Hanover County (Unincorporated Areas).
| At the New Hanover/Pender/Brunswick County boundary | •7 | •9 |
Town of Carolina Beach
Maps available for inspection at the Carolina Beach Town Hall, Planning Department, 1121 North Lake Park Boulevard, Carolina Beach, North Carolina.
Send comments to the Honorable Dennis Barbour, Mayor of the Town of Carolina Beach, 1121 North Lake Park Boulevard, Carolina Beach, North Carolina 28428.
Town of Kure Beach
Maps available for inspection at the Kure Beach Town Hall, 117 Settlers Lane, Kure Beach, North Carolina.
Send comments to the Honorable Betty Medlin, Mayor of the Town of Kure Beach, 117 Settlers Lane, Kure Beach, North Carolina 28449.
New Hanover County (Unincorporated Areas)
Maps available for inspection at the New Hanover County Inspections Department, Market Place Mall, 230 Market Place Drive, Suite 110, Wilmington, North Carolina.
Send comments to Mr. Allen O'Neal, New Hanover County Manager, 320 Chestnut Street, Room 502, Wilmington, North Carolina 28401-4093.
City of Wilmington
Maps available for inspection at the Wilmington City Hall, Zoning Department, 102 North 3rd Street, Wilmington, North Carolina.
Send comments to the Honorable Spence H. Broadhurst, Mayor of the City of Wilmington, 102 North 3rd Street, Wilmington, North Carolina 28402.
Town of Wrightsville Beach:
Maps available for inspection at the Wrightsville Beach Town Hall, Planning Department, 321 Causeway Drive, Wrightsville Beach, North Carolina.
Send comments to Ms. Andrea Surratt, Wrightsville Beach Town Manager, 321 Causeway Drive, Wrightsville Beach, North Carolina 28480.
NORTH CAROLINA
Orange County
Toms Creek (Apple Pond) | At the confluence with Cane Creek | None | •501 | Orange County (Unincorporated Areas).
| Approximately 1,800 feet upstream of Nicks Creek | None | •558 |
Turkey Hill Creek | At the confluence with Cane Creek | None | •512 | Orange County (Unincorporated Areas).
| Approximately 3.1 miles upstream of Bradshaw Quarry Road | None | •610 |
Cane Creek | Approximately 1,000 feet upstream of the confluence with Haw River | None | •418 | Orange County (Unincorporated Areas).
| Approximately 125 feet upstream of Borland Road | None | •606 |
Cane Creek Tributary No. 5 | At the confluence with Cane Creek | None | •543 | Orange County (Unincorporated Areas).
| Approximately 1,200 feet upstream of Orange Grove Road | None | •575 |
Watery Fork | At the confluence with Cane Creek | None | •501 | Orange County (Unincorporated Areas).
| Approxiamtely 250 feet upstream of Dairyland Road | None | •553 |
Collins Creek | At the Orange County/Chatham County boundary | None | •451 | Orange County (Unincorporated Areas).
| Approximately 0.1 mile upstream of Big Still Road | None | •536 |
Wildcat Branch | At the confluence with Collins Creek | None | •475 | Orange County (Unincorporated Areas).
| Approximately 1,250 feet upstream of Wildcat Creek Road | None | •506 |
Collins Creek Tributary 1 | At the confluence with Collins Creek | None | •487 | Orange County (Unincorporated Areas).
| Approximately 650 feet upstream of Gait Way | None | •580
Mill Creek | At the confluence with Lake Michael Tributary | None | •580 | Orange County (Unincorporated Areas).
| Approximately 1.3 miles upstream of Mill Creek Road | None | •658
Mill Creek Tributary | At the confluence with Mill Creek | None | •613 | Orange County (Unincorporated Areas).
| Approximately 0.5 miles upstream of Lee Street | None | •656
Mountain Creek | At the confluence with New Hope Creek | •474 | •473 | Orange County (Unincorporated Areas).
| Approximately 1.8 miles upstream of the confluence with New Hope Creek | None | •506
Booker Creek | At the confluence with Little Creek and Bolin Creek | •254 | •255 | Town of Chapel Hill.
| Approximately 600 feet upstream of Airport Road | •471 | •479
Cedar Fork | Approximately 150 feet upstream of Brookview Drive | •334 | •328 | Town of Chapel Hill.
| Approximately 600 feet upstream of Kingston Drive | None | •554
Terrells Creek | At the Orange County/Chatham County boundary | None | •421 | Orange County (Unincorporated Areas).
| Approximately 2.2 miles upstream of the County boundary | None | •498
University Lake (Price Creek) | At the University Lake Dam | None | •330 | Orange County (Unincorporated Areas), Town of Carrboro.
| At the Damascus Church Road | None | •358
South Hyco Creek | At the Caswell County/Orange County boundary | None | •589 | Orange County (Unincorporated Areas).
| Approximately 0.95 mile upstream of Bama Road | None | •643
Back Creek | At the Alamance County/Orange County boundary | None | •559 | Orange County (Unincorporated Areas).
| Approximately 150 feet downstream of Carr Store Road | None | •648
South Hyco Creek Tributary 8 | At the Person County/Orange County boundary | None | •604 | Orange County (Unincorporated Areas).
| Approximately 1,250 feet upstream of Jones Road | None | •620
Stagg Creek | At the Alamance County boundary | None | •606 | Orange County (Unincorporated Areas).
| Approximately 1,300 feet downstream of Atkins Road | None | •639
Back Creek Tributary 3 | At the confluence with Back Creek | None | •575 | Orange County (Unincorporated Areas).
| Approximately 300 feet downstream of Harmony Church Road | None | •646
Haw Creek | At the Orange County/Alamance County boundary | None | •611 | Orange County (Unincorporated Areas).
| Approximately 500 feet upstream of the Orange County/Alamance County boundary | None | •614
Lake Michael Tributary | At the confluence with Mill Creek | None | •580 | Orange County (Unincorporated Areas).
| Approximately 1,500 feet upstream of Lancaster Road | None | •693
Lake Michael Tributary 2 | At the confluence with Lake Michael Tributary | None | •637 | Orange County (Unincorporated Areas).
| Approximately 400 feet north of U.S. 70 | None | •695
Lib Creek | Approximately 250 feet downstream of the Orange County/Chatham County boundary | None | •257 | Orange County (Unincorporated Areas).
| Approximately 200 feet upstream of the Orange County/Chatham County boundary | None | •265
Crow Branch | At the confluence with Booker Creek | None | •398 | Town of Chapel Hill.
| Approximately 0.5 mile upstream of dam | None | •500
Chapel Creek | At the confluence with Morgan Creek | None | •261 | Town of Chapel Hill.
| Approximately 350 feet upstream of South Road | None | •419
Little Creek | At the Orange County/Durham County boundary | •250 | •245 | Town of Chapel Hill.
| At the confluence with Booker Creek | •254 | •255
Little Creek Tributary 3 | At the confluence with Little Creek | •253 | •252 | Town of Chapel Hill.
| At Elderberry Drive | None | •310
Bolin Creek | At the confluence with Little Creek and Booker Creek | •254 | •255 | Orange County (Unincorporated Areas), Town of Carrboro, Town of Chapel Hill.
| Approximately 1,250 feet upstream of Talbryn Way | None | •578
Buckhorn Branch | At the confluence with Jones Creek | None | •483 | Orange County (Unincorporated Areas), Town of Carrboro.
| Approximately 300 feet upstream of dam | None | •509
Meeting of the Waters Creek | At the confluence of Morgan Creek | •261 | •262 | Town of Chapel Hill.
| Approximately 0.6 mile upstream of Woodbine Drive | None | •341
Morgan Creek | Approximately 2.7 miles downstream of the Orange County/Chatham County boundary | None | •238 | Orange County (Unincorporated Areas), Town of Carrboro, Town of Chapel Hill.
| Approximately 100 feet upstream of Dairyland Road | •568 | •567
New Hope Creek Tributary 1 | Approximately 400 feet downstream of the Orange County/Durham County boundary | None | •264 | Orange County (Unincorporated Areas), Town of Chapel Hill.
| Approximately 1,800 feet upstream of confluence with Dry Branch | None | •297
Town of Carrboro
Maps available for inspection at the Carrboro Town Hall, Planning Department, 301 West Main Street, Carrboro, North Carolina.
Send comments to Mr. Steve Stewart, Carrboro Town Manager, 301 West Main Street, Carrboro, North Carolina 27510.
Town of Chapel Hill
Maps available for inspection at the Chapel Hill Town Hall, 306 North Columbia Street, Chapel Hill, North Carolina.
Send comments to The Honorable Kevin C. Foy, Mayor of the Town of Chapel Hill, Chapel Hill Town Hall, 306 North Columbia Street, 2nd Floor, Chapel Hill, North Carolina 27516.
Orange County (Unincorporated Areas)
Maps available for inspection at the Orange County Planning and Inspections Department, 306F Revere Road, Hillsborough, North Carolina.
Send comments to Mr. John M. Link, Jr., Orange County Manager, 200 South Cameron Street, Hillsborough, North Carolina 27278.
NORTH CAROLINA
Wake County
Adams Branch | At Corwin Road | None | •276 | Town of Garner.
| Approximately 800 feet upstream of Corwin Road | None | •280
Armory Tributary | Approximately 0.5 mile upstream of confluence with Richland Creek (Basin 18, Stream 13) | None | •366 | City of Raleigh.
| Approximately 0.7 mile upstream of confluence with Richland Creek (Basin 18, Stream 13) | None | •377
Basal Creek | At the confluence with Richland Creek (Basin 5, Stream 1) | •272 | •273 | Wake County (Unincorporated Areas), Town of Wake Forest.
| Approximately 250 feet upstream of St. Catherines Drive | None | •309
Basin 10, Stream 2 | At the confluence with Little River (Basin 10, Stream 1) | •220 | •219 | Wake County (Unincorporated Areas).
| At Morphus Bridge Road | •220 | •219
Basin 10, Stream 5 | At Lizard Lick Road | None | •286 | Wake County (Unincorporated Areas).
| Approximately 0.6 mile upstream of Lizard Lick Road | None | •291
Basin 10, Stream 5 | At the confluence with Little River (Basin 10, Stream 1) | •245 | •243 | Wake County (Unincorporated Areas).
| Approximately 200 feet downstream of U.S. Highway 64 | •245 | •244
Basin 10, Stream 6 | At Lizard Lick Road | None | •252 | Wake County (Unincorporated Areas).
| Approximately 280 feet upstream of Edgemont Road | None | •339
Basin 10, Stream 9 | At the confluence with Little River (Basin 10, Stream 1) | •256 | •254 | Wake County (Unincorporated Areas).
| At State Highway 96 | •288 | •289
Basin 10, Stream 10 | At the confluence with Little River (Basin 10, Stream 1) | •259 | •257 | Wake County (Unincorporated Areas).
| Approximately 250 feet upstream of Fowler Road | •259 | •258
Basin 10, Stream 13 | At the confluence with Basin 10, Stream 14 | None | •277 | Wake County (Unincorporated Areas).
| Approximately 1.7 miles upstream of the confluence with Basin 10, Stream 14 | None | •344
Basin 10, Stream 14 | Approximately 0.4 mile upstream of the confluence with Little River (Basin 10, Stream 1) | None | •267 | Wake County (Unincorporated Areas).
| At Franklin/Wake County boundary | None | •308
Basin 11, Stream 4 | At U.S. Highway 64 | None | •240 | Wake County (Unincorporated Areas).
| Approximately 700 feet upstream of Ferrell Road | None | •341
Basin 11, Stream 7 | At Wake/Johnston County boundary | None | •278 | Wake County (Unincorporated Areas).
| Approximately 0.4 mile upstream of the Wake/Johnston County boundary | None | •308
Basin 12, Stream 3 | At Old Crews Road | None | •244 | Town of Knightdale, Wake County (Unincorporated Areas).
| Approximately 0.4 mile upstream of Horton Road | None | •293
Basin 14, Stream 2 | Confluence with Marks Creek (Basin 14, Stream 1) | None | •183 | Wake County (Unincorporated Areas).
| Approximately 0.4 mile upstream of Lake Myra Road | None | •225
Basin 14, Stream 3 | At the confluence with Marks Creek (Basin 14, Stream 1) | None | •202 | Wake County (Unincorporated Areas).
| Approximately 0.4 mile upstream of Presentation Street | None | •244
Basin 18, Stream 13 | Upstream side of Sorrell Grove Church Road | None | •290 | Town of Morrisville, Wake County (Unincorporated Areas).
| At the Wake/Durham County boundary | None | •320
Basin 18, Stream 13 | At the confluence with Basin 18, Stream 13 | None | •318 | Wake County (Unincorporated Areas), Town of Morrisville.
| Approximately 0.5 mile upstream of the confluence with Basin 18, Stream 13 | None | •318
Basin 18, Stream 4 | Approximately 150 feet upstream of Grove Barton Road | None | •318 | City of Raleigh.
| Approximately 0.2 mile upstream of Country Trail | None | •400
Basin 18, Stream 7 | At confluence with Sycamore Creek (Basin 18, Stream 6) | None | •324 | City of Raleigh.
| Approximately 0.5 mile upstream of the confluence with Sycamore Creek (Basin 18, Stream 6) | None | •343
Basin 20, Stream 5 | Approximately 0.5 mile upstream of confluence with Swift Creek | None | •202 | Wake County (Unincorporated Areas).
| Approximately 1.7 miles upstream of confluence with Swift Creek | None | •257
Basin 23, Stream 2 | At the confluence with Black Creek (Basin 23, Stream 1) | None | •234 | Wake County (Unincorporated Areas).
| Approximately 1.0 mile upstream of John Adams Road | None | •320
Basin 23, Stream 2 Tributary | At confluence with Basin 23, Stream 2 | None | •239 | Wake County (Unincorporated Areas).
| Approximately 175 feet upstream of John Adams Road | None | •248
Basin 23, Stream 3 | At confluence with Black Creek | None | •283 | Wake County (Unincorporated Areas), Town of Fuquay-Varina.
| Approximately 0.9 mile upstream of Maude Stewart Road | None | •360
Basin 23, Stream 4 | At confluence with Basin 23, Stream 3 | None | •292 | Wake County (Unincorporated Areas).
| Approximately 1,775 feet upstream of Eddie Howard Road | None | •352
Basin 23, Stream 5 | At confluence with Black Creek | None | •301 | Wake County (Unincorporated Areas).
| Approximately 0.9 mile upstream of confluence with Black Creek | None | •331
Beaverdam Creek (Basin 11, Stream 3) | Approximately 0.7 mile upstream of Pearces Road | None | •319 | Wake County (Unincorporated Areas).
| Approximately 320 feet upstream of Pippin Road | None | •330
Beaverdam Creek (Basin 12, Stream 1) | At Old Crews Road | None | •231 | Wake County (Unincorporated Areas).
| Approximately 0.2 mile upstream of Lucas Road | None | •296
Beaverdam Creek (Basin 18, Stream 28) | Approximately 650 feet upstream of Scotland Street | •220 | •221 | City of Raleigh.
| At the upstream side of Glenwood Avenue | •246 | •247
Beaverdam Creek East (Basin 15, Stream 21) | At Kyle Drive | None | •235 | City of Raleigh.
| Approximately 450 feet upstream of U.S. Highway 401 | None | •244
Beddingfield Creek | Approximately 250 feet upstream of Shotwell Road | None | •164 | Wake County (Unincorporated Areas).
| Approximately 625 feet upstream of Shotwell Road | None | •166
Big Branch (Basin 10, Stream 8) | At confluence with Little River | •256 | •254 | Wake County (Unincorporated Areas).
| Approximately 0.3 mile upstream of Zebulon Road | None | •288
Big Branch (Basin 18, Stream 21) | Approximately 250 feet upstream of Chaswick Drive | •214 | •215 | City of Raleigh.
| Approximately 0.3 mile upstream of East Millbrook Road | None | •315
Big Branch (Basin 30, Stream 2) | At the confluence with Walnut Creek (Basin 30, Stream 1) | •183 | •180 | City of Raleigh, Wake County (Unincorporated Areas), Town of Garner.
| Approximately 0.4 mile downstream of Auburn Church Road | •241 | •242
Big Branch Tributary No. 1 (Basin 30, Stream 6) | Approximately 950 feet upstream of the confluence with Big Branch Southeast (Basin 30, Stream 2) | None | •185 | City of Raleigh, Wake County (Unincorporated Areas).
| Approximately 0.5 mile upstream of Interstate 40 | None | •217
Big Branch Tributary No. 3 | At the confluence with Big Branch Tributary No. 1 (Basin 30, Stream 6) | None | •197 | City of Raleigh, Wake County (Unincorporated Areas).
| Approximately 0.3 mile upstream of Interstate 40 | None | •222
Black Creek (Basin 23, Stream 1) | At Johnston County boundary | None | •213 | Wake County (Unincorporated Areas), Town of Fuquay-Varina.
| Approximately 1.0 mile upstream of confluence of Basin 23, Stream 5 | None | •325
Bridges Branch | Approximately 0.2 mile upstream of Barksdale Drive | •204 | •205 | City of Raleigh.
| Approximately 0.3 mile upstream of Barksdale Drive | None | •208
Brier Creek (Basin 18, Stream 14) | Approximately 0.6 mile upstream of confluence with Stirrup Iron Creek (Basin 18, Stream 12) | •283 | •284 | Town of Cary, Wake County (Unincorporated Areas).
| Approximately 0.7 mile upstream of Nelson Road | None | •329
Buffalo Creek (Basin 9, Stream 1) | At Robertson Pond Dam | None | •291 | Wake County (Unincorporated Areas).
| Approximately 0.8 mile upstream of Fowler Road | None | •399
Cedar Fork (Basin 10, Stream 15) | At the confluence with Little River (Basin 10, Stream 1) | •284 | •289 | Wake County (Unincorporated Areas), Town of Rolesville.
| Approximately 3.4 miles upstream of the confluence with Little River (Basin 10, Stream 1) | None | •360
Coles Branch (Basin 18, Stream 24) | Approximately 0.2 mile upstream of Cary Parkway | •334 | •335 | Town of Cary, Wake County (Unincorporated Areas).
| Approximately 850 feet upstream of Maynard Road | •366 | •369
Crabtree Creek (Basin 18, Stream 9) | At Ebenezer Church Road | None | •253 | City of Raleigh.
| Approximately 1.5 miles upstream of Reedy Creek Road | None | •258
Crabtree Creek Tributary No. 6 (Basin 18, Stream 20) | Approximately 0.3 mile downstream of Cary Parkway | None | •311 | Town of Cary, Wake County (Unincorporated Areas).
| Approximately 500 feet upstream of Cary Parkway | None | •337
Dutchmans Branch (Basin 20, Stream 17) | At the confluence with Swift Creek (Basin 20, Stream 1) (Lake Wheeler) | •291 | •289 | Wake County (Unincorporated Areas).
| At the downstream side of Blaney Franks Road | •291 | •289
Fowlers Mill Creek (Basin 10, Stream 12) | Approximately 0.2 mile upstream of the confluence with Little River (Basin 10, Stream 1) | None | •266 | Wake County (Unincorporated Areas).
| Approximately 1.4 miles upstream of Pullytown Road | None | •313
Guffy Branch (Basin 21, Stream 4) | At the confluence with Little Creek (Basin 21, Stream 1) | None | •231 | Wake County (Unincorporated Areas).
| Approximately 4.3 miles above confluence with Little Creek (Basin 21, Stream 1) | None | •355
Hatchet Grove Tributary (Basin 18, Stream 25) | Approximately 350 feet downstream of Hatchet Grove Dam Tributary | None | •314 | Town of Cary, Wake County (Unincorporated Areas).
| Approximately 0.7 mile upstream of Hatchet Grove Dam Tributary | None | •338
Hodges Creek (Basin 8, Stream 1) | Approximately 0.2 mile upstream of Old Crews Road | None | •222 | Wake County (Unincorporated Areas).
| Approximately 1.4 miles upstream of R.C. Watson Road | None | •337
Hominy Creek (Basin 10, Stream 7) | At Lizard Lick Road | None | •253 | Wake County (Unincorporated Areas).
| Approximately 0.3 mile upstream of Hodge Road | None | •337
Horse Creek (Basin 4, Stream 1) | Approximately 0.3 mile downstream of Wake/Franklin County boundary | None | •337 | Wake County (Unincorporated Areas).
| At the Wake/Franklin County boundary | None | •342
Juniper Branch (Basin 21, Stream 2) | At the confluence with Little Creek (Basin 21, Stream 1) | None | •261 | Wake County (Unincorporated Areas).
| Approximately 0.8 mile upstream of Pagan Road | None | •327
Lakemount Tributary (Basin 18, Stream 22) | At the confluence with Big Branch (Basin 18, Stream 21) | •253 | •254 | City of Raleigh.
| Approximately 250 feet downstream of Pinecroft Drive | None | •313
Ledge Creek | At the confluence with Falls Lake | None | •262 | Wake County (Unincorporated Areas).
| At the Wake/Granville County boundary | None | •262
Lens Branch (Basin 20, Stream 22) | At the confluence with Swift Creek (Basin 20, Stream 1) | •308 | •312 | Town of Cary, Wake County (Unincorporated Areas).
| Approximately 500 feet downstream of Lochmere Drive | •314 | •313
Little Beaverdam Lake | Entire shoreline | None | •262 | Wake County (Unincorporated Areas).
Little Beaverdam Creek (Basin 2, Stream 2) | Just upstream of the confluence with Little Beaverdam Lake | None | •262 | Wake County (Unincorporated Areas).
| Approximately 0.7 mile downstream of the Wake/Granville County boundary | None | •297
Little Black Creek (Basin 23, Stream 8) | At Johnston County boundary | None | •228 | Wake County (Unincorporated Areas).
| Approximately 0.6 mile upstream of Walter Myatt Road | None | •300
Little Brier Creek (Basin 18, Stream 15) | At the confluence with Brier Creek (Basin 18, Stream 14) | •317 | •322 | City of Raleigh, Wake County (Unincorporated Areas).
| At the Wake County/City of Raleigh boundary | •317 | •322
Little Brier Creek (Basin 18, Stream 15) | At the confluence with Brier Creek (Basin 18, Stream 14) | •318 | •322 | City of Raleigh.
| At the downstream side of Lumley Road | •321 | •322
Little Brier Creek East (Basin 18, Stream 16) | Just downstream of Interstate 70 | None | •347 | City of Raleigh, Wake County (Unincorporated Areas).
| Approximately 300 feet upstream of the Wake County/Durham County boundary | None | •388
Little Creek (Basin 11, Stream 2) | At Cemetery Road | None | •278 | Town of Zebulon, Wake County (Unincorporated Areas).
| Approximately 0.3 mile upstream of U.S. 64 | None | •312
Little Creek (Basin 21, Stream 1) | At the Wake County/Johnston County boundary | None | •220 | Wake County (Unincorporated Areas).
| Approximately 2.3 miles upstream of confluence of Juniper Branch | None | •335
Little River (Basin 10, Stream 1) | At Johnston/Wake County boundary | •218 | •216 | Wake County (Unincorporated Areas), Town of Wendell, Town of Zebulon.
| At Franklin/Wake County boundary | None | •325
Lizard Lick Creek (Basin 10, Stream 23) | At the confluence with Little River (Basin 10, Stream 1) | •225 | •222 | Town of Wendell, Wake County (Unincorporated Areas).
| At Wendell Boulevard | •225 | •226
Marks Creek (Basin 14, Stream 1) | Approximately 325 feet downstream of Wake/Johnston County boundary | None | •176 | Wake County (Unincorporated Areas).
| Approximately 0.8 mile downstream of Knightdale Eaglerock road | None | •208
Marsh Creek (Basin 18, Stream 17) | At Skycrest Drive | •202 | •203 | City of Raleigh, Wake County (Unincorporated Areas).
| Approximately 650 feet downstream of Falls Church Road | None | •315
Millbrook Tributary to Marsh Creek (Basin 18, Stream 19) | Approximately 50 feet upstream of confluence with Marsh Creek (Basin 18, Stream 17) | •236 | •237 | City of Raleigh, Wake County (Unincorporated Areas).
| At Brockton Drive | •241 | •240
Mills Branch (Basin 22, Stream 5) | Approximately 50 feet upstream of railroad | None | •274 | Wake County (Unincorporated Areas).
| Approximately 0.7 mile upstream of railroad | None | •301
Mingo Creek (Basin 12, Stream 2) | At the confluence with Beaverdam Southwest Creek | •204 | •206 | Town of Knightdale, Wake County (Unincorporated Areas).
| At Smithfield Road | •270 | •272
Moccasin Creek (Basin 11, Stream 1) | Approximately 380 feet downstream of U.S. 264 | •212 | •214 | Wake County (Unincorporated Areas).
| Approximately 0.7 mile upstream of Henry Baker Road | None | •307
New Hope Tributary to Marsh Creek (Basin 18, Stream 18) | Approximately 1,150 feet upstream of the confluence with Marsh Creek | •216 | •215 | City of Raleigh.
| Approximately 150 feet upstream of Calvary Drive | None | •293
Newlight Creek (Basin 3, Stream 1) | Approximately 450 feet upstream of confluence of Basin 3, Stream 8 | None | •280 | Wake County (Unincorporated Areas).
| At the Wake County/Granville County boundary | None | •283
Northeast Tributary to Turkey Creek (Basin 18, Stream 4) | Approximately 100 feet upstream of Grove Barton Road | None | •318 | City of Raleigh, Wake County (Unincorporated Areas).
| Approximately 0.3 mile upstream of County Trail | None | •400
Perry Creek (Basin 10, Stream 19) | At the confluence with Little River (Basin 10, Stream 1) | None | •318 | Wake County (Unincorporated Areas).
| Approximately 325 feet downstream of Old Pearce Road | None | •381
Perry Creek (Basin 15, Stream 26) | Approximately 225 feet downstream of the confluence with Perry Creek East Branch | •196 | •197 | City of Raleigh, Wake County (Unincorporated Areas).
| Approximately 0.8 mile upstream of Rainwater Drive | None | •355
Perry Creek East Branch (Basin 15, Stream 27) | At the confluence with Perry Creek (Basin 15, Stream 26) | •196 | •197 | City of Raleigh, Wake County (Unincorporated Areas).
| Approximately 650 feet upstream of the confluence with Perry Creek (Basin 15, Stream 26) | •196 | •197
Richland Creek (Basin 5, Stream 1) | Approximately 1,050 feet downstream of New Falls of the Neuse Road | •206 | •205 | City of Raleigh, Wake County (Unincorporated Areas), Town of Wake Forest.
| At the Wake/Franklin County boundary | None | •301
Richland Creek Tributary | At the confluence with Richland Creek (Basin 5, Stream 1) | •227 | •228 | Town of Wake Forest, Wake County (Unincorporated Areas).
| Approximately 1.2 miles upstream of the confluence with Richland Creek (Basin 5, Stream 1) | None | •311
Rocky Branch (Basin 30, Stream 5) | At the confluence with Walnut Creek (Basin 30, Stream 1) | •233 | •236 | City of Raleigh.
| Approximately 200 feet downstream of Western Boulevard | •296 | •297
Snipes Creek | Approximately 100 feet upstream of confluence of Basin 11, Stream 7 | None | •278 | Wake County (Unincorporated Areas) Town of Zebulon.
| Approximately 0.6 mile upstream of Highway 96 | None | •330
Swift Creek (Basin 20, Stream 1) | At Old Stage Road | •245 | •246 | Town of Cary, Wake County (Unincorporated Areas).
| Approximately 700 feet upstream of U.S. Highway 64 | None | •359
Swift Creek Tributary No. 7 (Basin 20, Stream 24) | At the confluence with Swift Creek (Basin 20, Stream 1) | •325 | •332 | Town of Cary, Wake County (Unincorporated Areas).
| Approximately 0.3 mile upstream of the confluence with Swift Creek (Basin 20, Stream 1) | •331 | •332
Sycamore Creek (Basin 18, Stream 6) | At the confluence with Crabtree Creek (Basin 18, Stream 9) | None | •254 | City of Raleigh, Wake County (Unincorporated Areas).
| Approximately 1 mile upstream of Leesville Road | None | •450
Sycamore Creek (Basin 18, Stream 6) | Approximately 0.5 mile upstream of ACC Boulevard | None | •395 | City of Raleigh, Wake County (Unincorporated Areas).
| Approximately 1 mile upstream of Leesville Road | None | •450
Turkey Creek (Basin 18, Stream 15) | At the confluence with Sycamore Creek | None | •254 | City of Raleigh, Wake County (Unincorporated Areas).
| Approximately 1.3 miles upstream of Ebenezer Church Road | None | •279
Unnamed Tributary (#1) to Swift Creek | Approximately 425 feet downstream of Wake/Johnston County boundary | None | •216 | Wake County (Unincorporated Areas).
| Approximately 125 feet downstream of Wake/Johnston County boundary | None | •216
Walnut Creek (Basin 30, Stream 1) | Approximately 0.8 mile upstream of the confluence with Neuse River (Basin 15, Stream 1) | •174 | •173 | Town of Cary, Wake County (Unincorporated Areas), City of Raleigh.
| Approximately 0.3 mile upstream of Maynard Road | None | •452
Buckhorn Creek | Approximately 500 feet downstream of Cass Holt Road | None | •232 | Wake County (Unincorporated Areas).
| Approximately 0.45 mile upstream of Honeycutt Road | None | •444
Jim Branch | At the confluence with Harris Reservoir | None | •232 | Wake County (Unincorporated Areas).
| Approximately 1.0 mile upstream of the confluence with Harris Reservoir | None | •252
Cary Branch | At the confluence with Harris Reservoir | None | •232 | Wake County (Unincorporated Areas).
| Approximately 2.3 mile upstream of the confluence with Norris Branch | None | •326
Harris Reservoir | Entire shoreline with Wake County | None | •232 | Wake County (Unincorporated Areas).
Norris Branch | At the confluence with Cary Creek | None | •239 | Wake County (Unincorporated Areas), Town of Holly Springs.
| Approximately 1.5 miles upstream of Avent Ferry Road | None | •328
Utley Creek | At the confluence with White Oak Creek | None | •232 | Wake County (Unincorporated Areas), Town of Holly Springs.
| Approximately 3.3 miles upstream of the confluence with White Oak Creek | None | •329
White Oak Creek (Basin 26, Stream 1) | At the confluence of Harris Reservoir | None | •232 | Wake County (Unincorporated Areas), Town of Holly Springs.
| Approximately 1,600 feet upstream of Highway 1 | None | •311
Big Branch (Basin 26, Stream 5) | At the confluence with White Oak Creek | None | •248 | Wake County (Unincorporated Areas), Town of Holly Springs.
| Approximately 0.4 mile upstream of Highway 1 | None | •307
Little Branch (Basin 26, Stream 3) | At the confluence with Big Branch (Basin 26, Stream 5) | None | •250 | Wake County (Unincorporated Areas), Town of Holly Springs.
| Apprixmately 1.7 miles upstream of New Hill Road | None | •310
Little Branch Tributary (Basin 26, Stream 4) | At the confluence with Little Branch (Basin 26, Stream 3) | None | •265 | Wake County (Unincorporated Areas).
| Approximately 1.0 mile upstream of the confluence with Little Branch | None | •282
Little White Oak Creek (Basin 26, Stream 9) | At the confluence with Harris Reservoir | None | •232 | Wake County (Unincorporated Areas).
| Approximately 0.8 mile upstream of Highway 1 | None | •288
Little White Oak Creek Tributary 2 | At the confluence with Little White Oak Creek (Basin 26, Stream 9) | None | •247 | Wake County (Unincorporated Areas).
| Approximately 900 feet upstream of the confluence with Little White Oak Creek (Basin 26, Stream 9) | None | •261
Thomas Creek | At the confluence with Harris Reservoir | None | •232 | Wake County (Unincorporated Areas).
| Approximately 100 feet downstream of Highway 1 | None | •245
Big Branch | At the confluence with Harris Reservoir | None | •232 | Wake County (Unincorporated Areas).
| Approximately 0.9 mile upstream of Highway 1 | None | •298
Little Beaver Creek (Basin 27, Stream 1) | Approximately 0.7 mile upstream of the Chatham/Wake County boundary | •238 | •239 | Wake County (Unincorporated Areas).
| Approximately 1.2 miles upstream of New Hill Olive Chapel Road | None | •284
Morris Branch | At Chatham/Wake County boundary | •250 | •264 | Wake County (Unincorporated Areas), Town of Cary.
| Approximately 750 feet upstream of Howard Road | None | •336
Kenneth Branch (Basin 24, Stream 6) | At railroad | None | •394 | Wake County (Unincorporated Areas), Town of Fuquay-Varina.
| Approximately 1,750 feet upstream of railroad | None | •394
Angier Creek (Basin 24, Stream 4) | Just upstream of railroad | None | •368 | Wake County (Unincorporated Areas), Town of Fuquay-Varina.
| Approximately 0.4 mile upstream of railroad | None | •378 |
Neills Creek | At Harnett/Wake County boundary | None | •263 | Wake County (Unincorporated Areas).
| Approximately 1.3 miles upstream of Harnett/Wake County boundary | None | •300 |
Beaver Creek (Basin 27, Stream 2) | At the confluence with Jordan Lake | None | •238 | Wake County (Unincorporated Areas), Town of Apex.
| Approximately 1,100 feet up stream of Castlebury Drive | None | •370 |
Jacks Branch (Basin 28, Stream 4) | At the confluence with White Oak Creek (Basin 28, Stream 1) | None | •273 | Wake County (Unincorporated Areas).
| Approximately 1.5 miles upstream of the confluence with White Oak Creek | None | •332 |
White Oak Creek (Basin 28, Stream 1) | At the Wake/Chatham County boundary | None | •238 | Wake County (Unincorporated Areas), Town of Cary.
| Approximately 0.6 mile upstream of Park Village Drive | None | •369 |
Clark Branch (Basin 28, Stream 3) | At the confluence with White Oak Creek | None | •256 | Wake County (Unincorporated Areas).
| Approximately 0.5 mile upstream of Green Level Church Road | None | •302 |
Basin 28, Stream 8 | At the confluence with White Oak Creek | None | •262 | Wake County (Unincorporated Areas), Town of Cary.
| Approximately 0.3 mile upstream of Hendricks Road | None | •303 |
Basin 28, Stream 7 | At the confluence with Basin 28, Stream 8 | None | •275 | Town of Cary.
| Approximately 0.4 mile upstream of the confluence with Basin 28, Stream 8 | None | •290 |
Batchelor Branch (Basin 28, Stream 6) | At the confluence with White Oak Creek | None | •268 | Wake County (Unincorporated Areas), Town of Cary.
| Approximately 1,000 feet upstream of Highfield Avenue | None | •356 |
Reedy Branch (Basin 27, Stream 5) | At the confluence with Beaver Creek (Basin 27, Stream 2) | •238 | •239 | Wake County (Unincorporated Areas).
| Approximately 0.4 mile upstream of the confluence with Reedy Branch Tributary (basin 27, Stream 6) | None | •274 |
Reedy Branch Tributary (basin 27, Stream 6) | Approximately 200 feet upstream of the confluence with Rudy Branch (Basin 27, Stream 5) | •265 | •266 | Wake County (Unincorporated Areas), Town of Apex.
| Approximately 800 feet upstream of Kelly Road | None | •310 |
Kenneth Creek (Basin 24, Stream 2) | At the Harnett/Wake County boundary | None | •257 | Town of Fuquay-Varina.
| Approximately 0.4 mile upstream of the Harnett/Wake County boundary | None | •262 |
Basin 18, Stream 13 Tributary | At the confluence with Basin 18, Stream 13 | None | •318 | Town of Morrisville.
| Approximately 0.6 mile upstream of the confluence with Basin 18, Stream 13 | None | •318 |
Basin 20, Stream 20 | At the confluence with Swift Creek | •293 | •292 | Wake County (Unincorporated Areas).
| Approximately 475 feet upstream of the confluence with Swift Creek | •293 | •292 |
Kit Creek (Basin 29, Stream 7) | Just upstream of Louis Stevens Road | •258 | •259 | Wake County (Unincorporated Areas), Town of Morrisville.
| Approximately 0.2 mile upstream of Davis Drive | None | •292 |
Kit Creek Tributary 1 (Basin 29, Stream 11) | At the confluence with Kit Creek (Basin 29, Stream 7) | •259 | •261 | Wake County (Unincorporated Areas).
| Approximately 0.3 mile upstream of Davis Drive | •279 | •284 |
Lens Branch (Basin 20, Stream 22) | At the confluence with Swift Creek | •308 | •312 | Wake County (Unincorporated Areas), Town of Cary.
| Approximately 500 feet downstream of Lochmere Drive | •314 | •313 |
Town of Apex
Maps available for inspection at the Apex Town Hall, 73 Hunter Street, Apex, North Carolina.
Send comments to The Honorable Keith Weatherly, Mayor of the Town of Apex, P.O. Box 250, Apex, North Carolina 27502.
Town of Cary
Maps available for inspection at the Cary Town Hall, Storm Water Services Division, 318 North Academy Street, Cary, North Carolina.
Send comments to The Honorable Ernest McAlister, Mayor of the Town of Cary, 318 North Academy Street, North Carolina 27511.
Town of Fuquay-Varina
Maps available for inspection at the Fuquay-Varina Town Hall, Planning Department, 401 Old Honeycutt Road, Fuquay-Varina, North Carolina.
Send comments to Mr. Andy Hedrick, Fuquay-Varina Town Manager, 401 Old Honeycutt Road, Fuquay-Varina, North Carolina 27526.
Town of Garner
Maps available for inspection at the Town of Garner Engineering Department, 900 7th Avenue, Building B, Garner, North Carolina.
Send comments to Ms. Mary Lou Todd, Garner Town Manager, P.O. Box 446, Garner, North Carolina 27529.
Town of Holly Springs
Maps available for inspection at the Holly Springs Town Hall, Engineering Department, 125 South Main Street, Holly Springs, North Carolina.
Send comments to The Honorable Richard Sears, Mayor of the Town of Holly Springs, 4716 Salem Ridge Road, Holly Springs, North Carolina 27540.
Town of Knightdale
Maps available for inspection at the Town of Knightdale Planning Department, 950 Steeple Square Court, Knightdale, North Carolina.
Send comments to Mr. Gary McConkey, Knightdale Town Manager, P.O. Box 640, Knightdale, North Carolina 27545.
Town of Morrisville
Maps available for inspection at the Morrisville Town Hall, Planning Department, 100 Town Hall Drive, Morrisville, North Carolina.
Send comments to The Honorable Gordon Cromwell, Mayor of the Town of Morrisville, 100 Town Hall Drive, Morrisville, North Carolina 27560-8443.
City of Raleigh
Maps available for inspection at the City of Raleigh Planning Department, 222 West Hargett Street, 4th Floor, Raleigh, North Carolina.
Send comments to the Honorable Charles Meeker, Mayor of the City of Raleigh, P.O. Box 590, Raleigh, North Carolina 27602.
Town of Rolesville
Maps available for inspection at the Rolesville Town Hall, 200 East Young Street, Rolesville, North Carolina.
Send comments to The Honorable Nancy Kelly, Mayor of the Town of Rolesville, P.O. Box 250, Rolesville, North Carolina 27571.
Wake County (Unincorporated Areas)
Maps available for inspection at the Wake County Office Building, Environmental Services, 1st Floor, 336 Fayetteville Street Mall, North Carolina.
Send comments to Mr. David Cooke, Wake County Manager, 337 South Salisbury Street, Suite 1100, Raleigh, North Carolina 27602.
Town of Wake Forest
Maps available for inspection at the Town of Wake Forest Planning Department, 401 Elm Avenue, Wake Forest, North Carolina.
Send comments to the Honorable Vivian Jones, Mayor of the Town of Wake Forest, 401 Elm Avenue, Wake Forest, North Carolina 27587.
Town of Wendell
Maps available for inspection at the Town of Wendell Planning Department, 15 East Fourth Street, Wendell, North Carolina.
Send comments to Mr. Timothy Burgess, Wendell Town Manager, P.O. Box 828, Wendell, North Carolina 27591.
Town of Zebulon
Maps available for inspection at the Town of Zebulon Planning Department, 100 North Arendell Avenue, Zebulon, North Carolina.
Send comments to The Honorable Robert Matheny, Mayor of the Town of Zebulon, 100 North Arendell Avenue, Zebulon, North Carolina 27597.
TENNESSEE
Knox County
Beaver Creek | Approximately 1.6 miles upstream of confluence with Clinch River | •797 | •796 | Knox County (Unincorporated Areas), City of Knoxville.
| Approximately 600 feet upstream of Tazewell Pike | None | •1,081 |
Berry Branch | At confluence with Lyon Creek | None | •881 | Knox County (Unincorporated Areas).
| Approximately 3,346 feet upstream of confluence with Lyon Creek | None | •889 |
Brice Branch | At confluence with Flat Creek | None | •946 | Knox County (Unincorporated Areas).
| Approximately 1,320 feet upstream of confluence with Flat Creek | None | •948 |
Burnett Creek | At confluence with French Broad River | None | •827 | Knox County (Unincorporated Areas).
| Approximately 763 feet upstream of John Sevier Highway | None | •865 |
Cliff Creek | At confluence with Lyon Creek | None | •849 | Knox County (Unincorporated Areas).
| Approximately 2.1 miles upstream of Randles Road | None | •985 |
Conner Creek | Just upstream of Rippling Drive | None | •796 | Knox County (Unincorporated Areas).
| Approximately 307 feet upstream of Conner Creek Circle | None | •960 |
Cox Creek | At confluence with Beaver Creek | None | •1,036 | Knox County (Unincorporated Areas).
| Approximately 701 feet upstream of Tazewell Road | None | •1,092 |
Tributary to Cox Creek | At confluence with Cox Creek | None | •1,044 | Knox County (Unincorporated Areas).
| Approximately 149 feet upstream of Cedarbreeze Road | None | •1,073 |
Echo Valley Tributary | At confluence with Ten Mile Creek | •875 | •876 | Knox County (Unincorporated Areas).
| Approximately 157 feet upstream of Echo Valley Road | None | •880 |
First Creek | At confluence with Tennessee River | •821 | •882 | City of Knoxville.
| Approximately 379 feet upstream of Knox Road | None | •967 |
First Creek Tributary No. 1 | At confluence with First Creek | None | •962 | City of Knoxville.
| Approximately 1,341 feet upstream of Rockcrest Road | None | •994 |
First Creek Tributary No. 2 | At confluence with First Creek | None | •962 | City of Knoxville.
| Approximately 1,011 feet upstream of Meadow Road | None | •985
Flat Creek | At confluence with Helston River | None | •848 | Knox County (Unincorporated Areas).
| Approximately 937 feet upstream of Longmire Road | None | •992
Fourth Creek | At confluence with Tennessee River | •818 | •819 | City of Knoxville.
| Approximately 227 feet upstream of Middlebrook Pike | •920 | •925
Tributary No. 1 to Fourth Creek | At confluence with Fourth Creek | •836 | •835 | City of Knoxville.
| Approximately 365 feet upstream of Lawford Road | None | •922
Tributary No. 3 to Fourth Creek | At confluence with Fourth Creek | None | •915 | City of Knoxville.
| Approximately 586 feet upstream of Picadilly Road | None | •947
French Broad | At confluence with French Broad | •826 | •825 | Knox County (Unincorporated Areas), City of Knoxville.
| At Knox County boundary | None | •860
Grassy Creek | At confluence with Beaver Creek | •974 | •973 | Knox County (Unincorporated Areas), City of Knoxville.
| Approximately 0.55 mile upstream of Grassy Creek Way | None | •1,024
Grassy Creek Tributary | At confluence with Grassy Creek | None | •993 | Knox County (Unincorporated Areas).
| Approximately 1.0 mile upstream of Johnson Road | None | •1,016
Hickory Creek | Approximately 500 feet upstream of Campbell Street | None | •926 | Knox County (Unincorporated Areas).
| Approximately 4,281 feet upstream of Cooper Lane | None | •1,025
Hines Branch | At confluence with Beaver Creek | None | •1,014 | Knox County (Unincorporated Areas), City of Knoxville.
| Approximately 1,835 feet upstream of Mynatt Drive | None | •1,078
Hines Creek | At confluence with French Broad River | None | •832 | Knox County (Unincorporated Areas).
| Approximately 0.44 mile upstream of Old Sevierville Pike | None | •921
Tributary to Hines Creek | At confluence with Hines Creek | None | •902 | Knox County (Unincorporated Areas).
| Approximately 0.47 mile upstream of confluence with Hines Creek | None | •919
Kerns Branch | At confluence with Beaver Creek | None | •1,058 | Knox County (Unincorporated Areas).
| Approximately 842 feet upstream of Majors Road | None | •1,130
Knob Creek | At confluence with Tennessee River | None | •818 | Knox County (Unincorporated Areas), City of Knoxville.
| Approximately 0.6 mile upstream of Martin Mill Pike | None | •903
Knob Fork | At confluence with Beaver Creek | •995 | •994 | Knox County (Unincorporated Areas).
| Approximately 183 feet upstream of Fountain City Road | None | •1,080
Limestone Creek | At confluence with Tuckahoe Creek | None | •872 | Knox County (Unincorporated Areas).
| Approximately 1,736 feet upstream of Smith School Road | None | •889
Little Flat Creek | At confluence with Flat Creek | None | •965 | Knox County (Unincorporated Areas).
| Approximately 0.8 mile upstream of Clement Road | None | •1,042
Little Turkey Creek | At confluence with Turkey Creek | •815 | •816 | Knox County (Unincorporated Areas), Town of Farragut.
| Approximately 900 feet upstream of Brochardt Boulevard | None | •916
Little Turkey Creek Tributary | At confluence with Little Turkey creek | None | •908 | Town of Farragut.
| Approximately 131 feet upstream of Hickory Woods Road | None | •947
Love Creek Tributary | At confluence with Love Creek | None | •836 | City of Knoxville.
| Approximately 1,086 feet upstream of Chilhavee Cant | None | •867
Lyon Creek | At confluence with Holsten River | None | •849 | Knox County (Unincorporated Areas).
| Approximately 461 feet upstream of Carter Mill Drive | None | •987
Mill Branch | At confluence with Willow Fork | •1,024 | •1,027 | Knox County (Unincorporated Areas), City of Knoxville.
| Approximately 440 feet upstream of Maynardville Pike | None | •1,142
Murphy Creek | Approximately 4,700 feet downstream of Southern Railway | •975 | •974 | Knox County (Unincorporated Areas).
| Approximately 1,350 feet upstream of Link Road | None | •1,087
North Fork Beaver Creek | At confluence with Beaver Creek | •1,015 | •1,018 | Knox County (Unincorporated Areas).
| Approximately 128 feet upstream of McCloud Road | None | •1,096
North Fork Turkey | Approximately 2,444 feet downstream of Kingston Pike | •853 | •852 | Town of Farragut.
| Approximately 1,375 feet upstream of Grigsby Chapel Road | None | •944
Plumb Creek | Approximately 560 feet downstream of Hardin Valley Road | •940 | •941 | Knox County (Unincorporated Areas).
| Approximately 146 feet upstream of Hickey Road | None | •977
Roseberry Creek | Approximately 1,200 feet upstream of confluence with Holsten River | •846 | •845 | Knox County (Unincorporated Areas), City of Knoxville.
| Approximately 1,352 feet upstream of Maloneyville Road | None | •1,030
Sinking Creek | At confluence with Tennessee River | None | •817 | Knox County (Unincorporated Areas).
| Approximately 1,200 feet upstream of Wallace Road | None | •913
Sinking Creek Tributary to Ten Mile Creek | At confluence with Ten Mile Creek | •894 | •900 | Knox County (Unincorporated Areas).
| Approximately 396 feet upstream of Middlebrook Pike | None | •997
Sixmile Branch | At end of Burnett Creek | None | •865 | Knox County (Unincorporated Areas).
| Approximately 636 feet upstream of East Maine Drive | None | •908
South Fork Beaver Creek | At confluence with Beaver Creek | None | •1,074 | Knox County (Unincorporated Areas).
| Approximately 392 feet upstream of Maloneyville Road | None | •1,107
Stock Creek | Approximately 1.23 miles downstream of Martin Mill Pike | •820 | •819 | Knox County (Unincorporated Areas).
| Approximately 58 feet upstream of McCammon Road | None | •892
Swanpond Creek | At a point just downstream of Huckleberry Springs Road | •933 | •932 | Knox County (Unincorporated Areas).
| Approximately 3,200 feet upstream of Wooddale Church Road | None | •996
Ten Mile Creek | At confluence with Ebenizers Sinkhole | •878 | •876 | Knox County (Unincorporated Areas), City of Knoxville
| Approximately 0.5 mile upstream of Robinson Road | None | •967
Thompson School Tributary | At confluence with Beaver Creek | None | •1,067 | Knox County (Unincorporated Areas).
| Approximately 545 feet upstream of East Emory Road | None | •1,086
Tuckahoe Creek | At confluence with French Broad River | None | •850 | Knox County (Unincorporated Areas).
| Approximately 3,396 feet upstream of Dave Smith Road | None | •906
Turkey Creek | At confluence with Tennessee River | •815 | •816 | Knox County (Unincorporated Areas), Town of Farragut.
| Approximately 1,606 feet upstream of Dutchtown Road | None | •960
West Hills Tributary | At confluence with Ten Mile Creek | •899 | •902 | Knox County (Unincorporated Areas), City of Knoxville.
| Approximately 295 feet upstream of Corteland Drive | None | •931
Whites Creek | At confluence with First Creek | •955 | •957 | Knox County (Unincorporated Areas), City of Knoxville.
| Approximately 0.6 mile upstream of Clearbrook Road | None | •989
Williams Creek | At confluence with Tennessee River | •822 | •823 | City of Knoxville.
| Approximately 451 feet upstream of Wilson Avenue | None | •898
Willow Fork | At confluence with Beaver Creek | •1,022 | •1,027 | Knox County (Unincorporated Areas).
| Approximately 628 feet upstream of Brackett Road | None | •1,093
Little River | At confluence with Tennessee River | •817 | •818 | Knox County (Unincorporated Areas), City of Knoxville.
| Approximately 0.77 mile upstream of Alro Highway | None | •819
Tennessee River | Approximately 28.0 miles downstream of Pellissippi Parkway | •815 | •816 | Knox County (Unincorporated Areas), City of Knoxville.
| Just upstream of confluence of Williams Creek | •822 | •823
Town of Farragut
Maps available for inspection at the Farragut Town Hall, Engineering Department, 11408 Municipal Center Drive, Farragut, Tennessee.
Send comments to Mr. Dave Olson, Farragut Town Administrator, Farragut Town Hall, Administration Department, 11408 Municipal Center Drive,Farragut, Tennessee 37922.
Knox County (Unincorporated Areas)
Maps available for inspection at Knox County Engineering and Public Works, 205 West Baxter Avenue, Knoxville, Tennessee.
Send comments to The Honorable Michael R. Ragsdale, Mayor of Knox County,Office of County Mayor, 400 West Main Street, Suite 615, Knoxville,Tennessee 37902.
City of Knoxville
Maps available for inspection at the City of Knoxville Engineering Division, City County Building, 400 Main Street, Room 480, Knoxville,Tennessee.
Send comments to the Honorable Bill Haslam, Mayor of the City of Knoxville, P.O. Box 1631, Knoxville, Tennessee 37901.
WEST VIRGINIA
Wyoming County
Barkers Creek | At the confluence with Guyandotte River | •1,394 | •1,395 | Wyoming County (Unincorporated Areas).
| Approximately 2.5 miles upstream of Milam Fork | None | •2,410
Clear Fork | At the upstream Town of Oceana corporate limits | None | •1,291 | Wyoming County (Unincorporated Areas).
| Approximately 0.5 mile upstream of Koppers City Bottom Road 2 | None | •1,376
Gooney Otter Creek | At the confluence with Barkers Creek | None | •1,652 | Wyoming County (Unincorporated Areas).
| Approximately 1.1 miles upstream of Noseman Branch | None | •1,929
Huff Creek | At the Wyoming County boundary | None | •973 | Wyoming County (Unincorporated Areas).
| Approximately 10.5 miles upstream of county boundary | None | •1,530 |
Indian Creek | At the confluence with the Guyandotte River | None | •1,137 | Wyoming County (Unincorporated Areas).
| Approximately 9.3 miles upstream of confluence with the Guyandotte River | •1,293 | •1,292 |
Laurel Fork | Approximately 30 feet downstream of State Route 10 | •1,362 | •1,363 | Wyoming County (Unincorporated Areas).
| Approximately 0.5 mile upstream of Access Road | None | •1,846 |
Muzzle Creek | At the confluence of Little Huff Creek | None | •1,079 | Wyoming County (Unincorporated Areas).
| Approximately 1.5 miles upstream of the confluence of Little Huff Creek | None | •1,177 |
Slab Fork | Approximately 900 feet downstream of Caloric Road | None | •1,052 | Wyoming County (Unincorporated Areas).
| Approximately 2.1 miles upstream of Jesus Way Church Bridge | None | •1,651 |
Wyoming County (Unincorporated Areas)
Maps available for inspection at the Wyoming County Courthouse, Main Street, Pineville, West Virginia.
Send comments to Mr. H.R. Davis, Wyoming County Commission President, P.O. Box 309, Pineville, West Virginia 24874.

(Catalog of Federal Domestic Assistance No. 83.100, “Flood Insurance.”)

Dated: June 14, 2005.
David I. Maurstad,
Acting Director, Mitigation Division, Emergency Preparedness and Response Directorate.

[FR Doc. 05-12167 Filed 6-20-05; 8:45 am]

BILLING CODE 9110-12-P